DEPARTMENT OF TRANSPORTATION

Federal Aviation Administration

14 CFR Part 39

[Docket No. FAA-2010-0038; Directorate Identifier 2009-NM-110-AD; Amendment 39-16203; AD 2010-04-10]

RIN 2120-AA64

Airworthiness Directives; Airbus Model A380-841, -842, and -861 Airplanes

AGENCY: Federal Aviation Administration (FAA), Department of Transportation (DOT).

ACTION: Final rule; request for comments.

SUMMARY: The FAA is superseding an existing airworthiness directive (AD) for the products listed above. This AD results from mandatory continuing airworthiness information (MCAI) originated by an aviation authority of another country to identify and correct an unsafe condition on an aviation product. The MCAI describes the unsafe condition as:

During the flight test campaign of the A380-861 model (Engine Alliance powered), some cracks were found on the Movable Flap Track Fairing number 6 (MFTF#6).

These cracks were located at the pivot attachment support-ring and at the U-frame in the attachment area to aft-kinematic. In addition, delamination has been observed within the monolithic Carbon Fibre Reinforced Plastic (CFRP) structure around the pivot support-ring.

This condition, if not corrected, could lead to in-flight loss of the MFTF#6, potentially resulting in injuries to persons on the ground.

* * * * *

This AD requires actions that are intended to address the unsafe condition described in the MCAI.

DATES: This AD becomes effective March 10, 2010.

The Director of the Federal Register approved the incorporation by reference of certain publications listed in the AD as of March 10, 2010.

On May 28, 2009 (74 FR 22422, May 13, 2009), the Director of the Federal Register approved the incorporation by reference of a certain other publication listed in the AD.

We must receive comments on this AD by April 9, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Todd Thompson, Aerospace Engineer, International Branch, ANM-116, Transport Airplane Directorate, FAA, 1601 Lind Avenue, SW., Renton, Washington 98057-3356; telephone (425) 227-1175; fax (425) 227-1149.

SUPPLEMENTARY INFORMATION:

Discussion

On May 1, 2009, the FAA issued AD 2009-10-07, Amendment 39-15902 (74 FR 22422, May 13, 2009). That AD required actions intended to address an unsafe condition on the products listed above.

Since we issued that AD, the European Aviation Safety Agency (EASA), which is the Technical Agent for the Member States of the European Community, has issued EASA Airworthiness Directive 2009-0152, dated July 14, 2009 (referred to after this as “the MCAI”), to correct an unsafe condition for the specified products. The MCAI states:

During the flight test campaign of the A380-861 model (Engine Alliance powered), some cracks were found on the Movable Flap Track Fairing number 6 (MFTF#6).

These cracks were located at the pivot attachment support-ring and at the U-frame in the attachment area to aft-kinematic. In addition, delamination has been observed within the monolithic Carbon Fibre Reinforced Plastic (CFRP) structure around the pivot support-ring.

This condition, if not corrected, could lead to in-flight loss of the MFTF#6, potentially resulting in injuries to persons on the ground.

To prevent the risk of a MFTF#6 detachment, EASA AD 2008-0216 (which corresponds to FAA AD 2009-10-07) required an inspection programme in order to detect cracks before they become critical and in case of findings to replace the MFTF#6.

This AD, which supersedes EASA AD 2008-0216:

• Cancels the MFTF#6 General Visual Inspection requirement,

• Refers to Airbus Service Bulletin A380-57-8014 Revision 1 * * *

• Introduces an optional terminating action [installing reinforced part].

AD 2009-10-07 applies to all Airbus Model A380-841, -842, and -861 airplanes. This AD retains the requirements of AD 2009-10-07. Airplanes were removed from the applicability of AD 2009-10-07 by excluding airplanes on which Airbus modification 68729 is done in production. This AD also revises the compliance time for the inspections of replaced parts. The compliance time is reduced for certain parts and extended for certain other parts, depending on the flight cycles since first installation of the part. The replacement parts must be inspected within the thresholds specified in paragraph (f)(1) of this AD.

Relevant Service Information

Since we issued AD 2009-10-07, Airbus has issued Mandatory Service Bulletin A380-57-8014, Revision 01, dated June 5, 2009; and Service Bulletin A380-57-8017, dated June 5, 2009. The actions described in this service information are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

There are no products of this type currently registered in the United States. However, this rule is necessary to ensure that the described unsafe condition is addressed if any of these products are placed on the U.S. Register in the future.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

FAA's Determination of the Effective Date

Since there are currently no domestic operators of this product, notice and opportunity for public comment before issuing this AD are unnecessary.

Comments Invited

This AD is a final rule that involves requirements affecting flight safety, and we did not precede it by notice and opportunity for public comment. We invite you to send any written relevant data, views, or arguments about this AD. Send your comments to an address listed under the ADDRESSES section. Include “Docket No. FAA-2010-0038; Directorate Identifier 2009-NM-110-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15902 (74 FR 22422, May 13, 2009) and adding the following new AD:

2010-04-10 Airbus: Amendment 39-16203. Docket No. FAA-2010-0038; Directorate Identifier 2009-NM-110-AD.

Effective Date

(a) This airworthiness directive (AD) becomes effective March 10, 2010.

Affected ADs

(b) This AD supersedes AD 2009-10-07, Amendment 39-15902.

Applicability

(c) This AD applies to Airbus Model A380-841, -842, and -861 airplanes, certificated in any category, all serial numbers, except airplanes on which Airbus modification 68729 has been done in production.

Subject

(d) Air Transport Association (ATA) of America Code 57: Wings.

Reason

(e) The mandatory continued airworthiness information (MCAI) states:

During the flight test campaign of the A380-861 model (Engine Alliance powered), some cracks were found on the Movable Flap Track Fairing number 6 (MFTF#6).

These cracks were located at the pivot attachment support-ring and at the U-frame in the attachment area to aft-kinematic. In addition, delamination has been observed within the monolithic Carbon Fibre Reinforced Plastic (CFRP) structure around the pivot support-ring.

This condition, if not corrected, could lead to in-flight loss of the MFTF#6, potentially resulting in injuries to persons on the ground.

To prevent the risk of a MFTF#6 detachment, EASA AD 2008-0216 required an inspection programme in order to detect cracks before they become critical and in case of findings to replace the MFTF#6.

This AD, which supersedes EASA AD 2008-0216:

• Cancels the MFTF#6 General Visual Inspection requirement,

• Refers to Airbus Service Bulletin A380-57-8014 Revision 1, * * *

• Introduces an optional terminating action.

Restatement of Requirements of AD 2009-10-07, With Revised Inspection, Service Information, and Compliance Time for the Inspection of Replaced Parts

Actions and Compliance

(f) Unless already done, do the following actions.

(1) At the applicable time specified in paragraph (f)(1)(i) or (f)(1)(ii) of this AD for the left- and right-hand MFTF#6, do a special detailed (ultrasonic and high-frequency eddy current) inspection of the filet radii of pivot supports, monolithic carbon fibre reinforced plastic structures, and radii of the U-frame, for cracking and delamination in accordance with the Accomplishment Instructions of Airbus Service Bulletin A380-57-8014, dated November 21, 2008; or Airbus Mandatory Service Bulletin A380-57-8014, Revision 01, dated June 5, 2009. After the effective date of this AD, use only Revision 01.

(i) For Airbus Model A380-841 and -842 airplanes: Before the MFTF#6 has accumulated 500 total flight cycles since its first installation on an airplane, or within 30 flight hours after May 28, 2009 (the effective date of AD 2009-10-07), whichever occurs later.

(ii) For Model A380-861 airplanes: Before the MFTF#6 has accumulated 100 total flight cycles since its first installation on an airplane, or within 30 flight hours after May 28, 2009, whichever occurs later.

(2) If no cracking and no delamination are found during any inspection required by paragraph (f)(1) of this AD, repeat the inspections required by paragraph (f)(1) of this AD thereafter at intervals not to exceed the applicable time specified in paragraph (f)(2)(i) or (f)(2)(ii) of this AD.

(i) For Model A380-841 and -842 airplanes: 50 flight cycles.

(ii) For Model A380-861 airplanes: 10 flight cycles.

(3) If any cracking or delamination is found during any inspection required by paragraph (f)(1) or (f)(2) of this AD, before further flight, replace the MFTF#6 with a new or serviceable part, in accordance with the Accomplishment Instructions of Airbus Service Bulletin A380-57-8014, dated November 21, 2008; or Airbus Mandatory Service Bulletin A380-57-8014, Revision 01, dated June 5, 2009. For parts replaced before the effective date of this AD, repeat the inspections specified in paragraph (f)(1) of this AD at the later of the times specified in paragraphs (f)(3)(i) and (f)(3)(ii) of this AD. For parts replaced on or after the effective date of this AD, repeat the inspections specified in paragraph (f)(1) of this AD at the applicable time defined in paragraph (f)(1) of this AD. After the effective date of this AD, use only Revision 01 for the replacement.

(i) At the applicable time defined in paragraph (f)(2) of this AD.

(ii) At the applicable time defined in paragraph (f)(1) of this AD.

New Requirements of This AD

Actions and Compliance

(g) Unless already done, do the following actions.

(1) In case of MFTF#6 replacement, submit a report using Appendix 01 of Airbus Service Bulletin A380-57-8014, dated November 21, 2008, to Airbus Central Entity, Dept SEES5, 1, Rond Point Maurice Bellonte, 31707 Blagnac, France; e-mail Frederic.molinier@airbus.com; at the applicable time specified in paragraph (g)(1)(i) or (g)(1)(ii) of this AD. The report must include the serial number of the removed MFTF#6, the associated airplane manufacturer serial number, and the number of flight cycles accumulated by the MFTF#6 at the time of removal.

(i) If the MFTF#6 replacement was done on or after the effective date of this AD: Submit the report within 30 days after the MFTF#6 removal.

(ii) If the MFTF#6 replacement was done before the effective date of this AD: Submit the report within 30 days after the effective date of this AD.

(2) Replacement of the MFTF#6 with a reinforced MFTF#6, in accordance with the Accomplishment Instructions of Airbus Service Bulletin A380-57-8017, dated June 5, 2009, terminates the requirements of this AD.

FAA AD Differences

Note 1: This AD differs from the MCAI and/or service information as follows: No differences.

Other FAA AD Provisions

(h) The following provisions also apply to this AD:

(1) Alternative Methods of Compliance (AMOCs): The Manager, International Branch, ANM-116, Transport Airplane Directorate, FAA, has the authority to approve AMOCs for this AD, if requested using the procedures found in 14 CFR 39.19. Send information to ATTN: Todd Thompson, Aerospace Engineer, International Branch, ANM-116, Transport Airplane Directorate, FAA, 1601 Lind Avenue, SW., Renton, Washington 98057-3356; telephone (425) 227-1175; fax (425) 227-1149. Before using any approved AMOC on any airplane to which the AMOC applies, notify your appropriate principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(i) Refer to Mandatory Continuing Airworthiness Information (MCAI) EASA Airworthiness Directive 2009-0152, dated July 14, 2009; Airbus Service Bulletin A380-57-8014, dated November 21, 2008; Airbus Mandatory Service Bulletin A380-57-8014, Revision 01, dated June 5, 2009; and Airbus Service Bulletin A380-57-8017, dated June 5, 2009; for related information.

Material Incorporated by Reference

(j) You must use Airbus Service Bulletin A380-57-8014, including Appendix 01, dated November 21, 2008; Airbus Mandatory Service Bulletin A380-57-8014, Revision 01, dated June 5, 2009; and Airbus Service Bulletin A380-57-8017, dated June 5, 2009; as applicable; to do the actions required by this AD, unless the AD specifies otherwise.

(1) The Director of the Federal Register approved the incorporation by reference of Airbus Mandatory Service Bulletin A380-57-8014, Revision 01, dated June 5, 2009; and Airbus Service Bulletin A380-57-8017, dated June 5, 2009; under 5 U.S.C. 552(a) and 1 CFR part 51.

(2) The Director of the Federal Register previously approved the incorporation by reference of Airbus Service Bulletin A380-57-8014, including Appendix 01, dated November 21, 2008, on May 28, 2009 (74 FR 22422, May 13, 2009).

(3) For service information identified in this AD, contact Airbus SAS—EANA (Airworthiness Office); 1 Rond Point Maurice Bellonte, 31707 Blagnac Cedex, France; telephone +33 562 110 253; Fax +33 562 110 307; e-mail account.airworth-A380@airbus.com; Internet http://www.airbus.com.

(4) You may review copies of the service information at the FAA, Transport Airplane Directorate, 1601 Lind Avenue, SW., Renton, Washington. For information on the availability of this material at the FAA, call 425-227-1221 or 425-227-1152.

(5) You may also review copies of the service information that is incorporated by reference at the National Archives and Records Administration (NARA). For information on the availability of this material at NARA, call 202-741-6030, or go to: http://www.archives.gov/federal_register/code_of_federal_regulations/ibr_locations.html.

Issued in Renton, Washington, on February 5, 2010.
Stephen P. Boyd,
Acting Manager, Transport Airplane Directorate, Aircraft Certification Service.

[FR Doc. 2010-3121 Filed 2-22-10; 8:45 am]

BILLING CODE 4910-13-P